DEPARTMENT OF THE INTERIOR

Fish and Wildlife Service

[FWS-R3-ES-2011-N071; 30120-1113-0000-F6]

Endangered and Threatened Wildlife and Plants; Permit Applications

AGENCY: Fish and Wildlife Service, Interior.

ACTION: Notice of availability of permit applications; request for comments.

SUMMARY: We, the U.S. Fish and Wildlife Service, invite the public to comment on the following applications to conduct certain activities with endangered species. With some exceptions, the Endangered Species Act (Act) prohibits activities with endangered and threatened species unless a Federal permit allows such activity. The Act requires that we invite public comment before issuing these permits.

DATES: We must receive any written comments on or before May 16, 2011.

ADDRESSES: Send written comments by U.S. mail to the Regional Director, Attn: Lisa Mandell, U.S. Fish and Wildlife Service, Ecological Services, 1 Federal Drive, Fort Snelling, MN 55111-4056; or by electronic mail to permitsR3ES@fws.gov.

FOR FURTHER INFORMATION CONTACT: Lisa Mandell,(612) 713-5343.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR 17. Submit your written data, comments, or request for a copy of the complete application to the address shown in ADDRESSES.

Permit Applications

Permit Application Number: TE38769A.

Applicant: Sarah A. Bradley, Salem, MO.

The applicant requests a permit renewal to take (capture and release) Indiana bats (Myotissodalis) and gray bats (Myotisgrisescens) on the Mark Twain National Forest. Proposed activities are for the enhancement of survival of the species in the wild.

Permit Application Number: TE38785A.

Applicant: Merrill B. Tawse, Mansfield, OH.

The applicant requests a permit renewal to take (capture and release) Indiana bats within Indiana, Kentucky, Ohio, Pennsylvania, and West Virginia. Proposed activities are for enhancement of survival of the species in the wild.

Permit Application Number: TE38789A.

Applicant: BHE Environmental, Inc., Cincinnati, OH.

The applicant requests a permit renewal to take (capture and release) Indiana bats and gray bats throughout the range of the species (within IL, IN, IA, MI, MO, OH, KY, TN, AL, GA, AR, MS, NC, SC, FL, PA, and NY). Permit renewal is also requested for threatened and endangered mussel species within AZ, NM, OK, TX, IL, IN, IA, MI, MN, MO, OH, WI, AL, AR, FL, GA, KY, LA, MS, NC, SC, TN, CT, DE, ME, MD, MA, NH, NJ, NY, PA, RI, VT, VA, and WV and threatened and endangered fish species within those States and CO, KS, MT, NE, ND, SD, UT, and WY. Proposed activities are for enhancement of survival of the species in the wild through studies to monitor habitat use, surveys to document presence of the species, and through population assessments.

Permit Application Number: TE38793A.

Applicant: Kenneth S. Mierzwa, Eureka, CA.

The applicant requests a permit renewal to take (capture and release of larvae; collection of excuviae) Hine's emerald dragonfly (Somatochlorahineana) in Will County, Illinois. Proposed activities are for enhancement of survival of the species in the wild.

Permit Application Number: TE38821A.

Applicant: Stantec Consulting Services, Louisville, KY.

The applicant requests a permit renewal/amendment to take (capture and release) Indiana bats, gray bats, Ozark big-eared bats (Corynorhinustownsendiiingens), Virginia big-eared bats (Corynorhinustownsendiivirginianus), the Copperbelly water snake (Nerodiaerythrogasterneglecta), Carolina Northern flying squirrel (Glaucomyssabrinuscoloratus), and the bog turtle (Clemmysmuhlenbergii) throughout their range within OK, IL, IN, IA, MI, MO, OH, AL, AR, GA, KY, MS, NC, SC, TN, CT, DE, MA, MD,NH, NJ, NY, PA, RI, VT, VA, and WV. Permit renewal is also requested for threatened and endangered mussel and fish species within those States. Proposed activities are for enhancement of survival of the species in the wild through studies to monitor habitat use, surveys to document presence of the species, and through population assessments.

Permit Application Number: TE38835A.

Applicant: Land Conservancy of West Michigan, Grand Rapids, MI.

The applicant requests a permit renewal/amendment to take (habitat management; presence/absence surveys; prescribed fire) Karner blue butterfly (Lycaeidesmelissasamuelis) on the Maas Preserve, Kent County, Michigan. Proposed activities are for enhancement of survival of the species in the wild.

Permit Application Number: TE38837A.

Applicant: J.F. New Associates, Inc., Walkerton, IN.

The applicant requests a permit renewal/amendment to take (capture and release) Indiana bats and gray bats within Kentucky, Illinois, Indiana, Iowa, Michigan, Missouri, Ohio, and Wisconsin. The applicant requests a permit amendment to include Virginia big-eared bats and to expand the geographic scope of the permit to include the range of all three species within States above and Alabama, Arkansas, Connecticut, Florida, Georgia, Maryland, Mississippi, New Jersey, New York, North Carolina, Oklahoma, Pennsylvania, Tennessee, Vermont, Virginia, and West Virginia. Proposed activities are for enhancement of survival of the species in the wild.

Permit Application Number: TE38838A.

Applicant: Dr. Michael Hoggarth, Westerville, OH.

The applicant requests a permit renewal to take (capture and release) Federally listed mussels within Ohio. Species included on Dr. Hoggarth's existing permit are: purple catspaw pearlymussel (Epioblasma obliquata obliquata), fanshell (Cyprogeniastegaria), white catspaw (Epioblasmaobliquataperobliqua), pink mucket pearly mussel (Lampsilisabrupta), rayed bean (Villosafabalis), sheepnose (Plethobasuscyphyus), clubshell (Pluerobemaclava), rabbitsfoot (Quadrulacylindricacylindrica), and snuffbox mussel (Epioblasmatriquetra). The applicant requests a permit amendment to take Federally listed mussels within an expanded geographic scope including: Indiana, Michigan, Kentucky, and West Virginia. Proposed activities are for enhancement of survival of the species in the wild.

Permit Application Number: TE38842A.

Applicant: Sanders Environmental Inc., Bellefonte, PA.

The applicant requests a permit renewal/amendment to take (capture; radio-tag; release) Indiana bats within Illinois, Indiana, Iowa, Michigan, Missouri, Ohio, and Wisconsin. The applicant requests a permit amendment to include gray bats and to expand the geographic scope of the permit to include the range of both species within the States above and Alabama, Arkansas, Florida, Georgia, Kentucky, Mississippi, North Carolina, and Tennessee. Proposed activities are for enhancement of survival of the species in the wild.

Permit Application Number: TE38849A.

Applicant: Macalester College, St. Paul, MN.

The applicant requests a permit renewal/amendment to take (capture and release) Higgins' eye pearlymussel (Lampsilishigginsi), winged mapleleaf mussel (Quadrulafragosa), sheepnose mussel, snuffbox mussel, and spectaclecasemussel (Cumberlandiamonodonta) within the Chippewa River, Mississippi River, and the St. Croix River within Minnesota and Wisconsin. The proposed research involves community monitoring and habitat analysis. The applicant also requests authority to conduct host suitability trials and brooding studies on sheepnose mussels collected in the Mississippi River Basin in Minnesota and Wisconsin; this research involves temporarily holding females and collecting glochidia. Proposed activities are for enhancement of survival of the species in the wild.

Permit Application Number: TE38856A.

Applicant: Skelly and Loy, Inc., Harrisburg, PA.

The applicant requests a permit to take (capture and release) Indiana bats and Virginia big-eared bats throughout the range of the species within Illinois, Indiana, Iowa, Michigan, Missouri, Ohio, Arkansas, Georgia, Kentucky, Mississippi, North Carolina, Tennessee, Connecticut, Maryland, New Jersey, New York, Pennsylvania, Vermont, Virginia, and West Virginia. The proposed activities are for the enhancement of survival of the species in the wild.

Permit Application Number: TE38858A.

Applicant: The Holden Arboretum, Kirtland, OH.

The applicant requests a permit to take (survey and collect seed) Houghton's goldenrod (Oligoneuronhoughtonii) on lands within Crawford and Kalkaska Counties, Michigan. Proposed activities are for enhancement of survival of the species in the wild.

Permit Application Number: TE38860A.

Applicant: Jason M. Garvon, Sault Sainte Marie, MI.

The applicant requests a permit to take (conduct habitat surveys; monitor nesting sites; erect nesting enclosures) Piping plover (Charadriusmelodus) throughout the Upper Peninsula of Michigan. Proposed activities are for the recovery and enhancement of survival of the species in the wild.

Permit Application Number: TE38862A.

Applicant: George R. Cunningham, Omaha, NE.

The applicant requests a permit to take (capture and release) Topeka shiners (Notropistopeka) throughout Nebraska, South Dakota, Missouri, Iowa, Kansas, and Minnesota. Proposed activities are for the recovery and enhancement of survival of the species in the wild.

Permit Application Number: TE38866A.

Applicant: David Mech, U.S. Geological Survey, St. Paul, MN.

The applicant requests a permit to take (capture, radio-tag, use chemical immobilization, assess and treat health conditions, implant isotopes, salvage, and release) gray wolf (Canis lupus) in Minnesota, and other locations within the 48 continental States of the United States to monitor the status of the species. The proposed research is for the recovery of the species in the wild.

Public Comments

We seek public review and comments on these permit applications. Please refer to the permit number when you submit comments. Comments and materials we receive are available for public inspection, by appointment, during normal business hours at the address shown in the ADDRESSES section. Before including your address, phone number, e-mail address, or other personal identifying information in your comment, you should be aware that your entire comment—including your personal identifying information—may be made publicly available at any time. While you can ask us in your comment to withhold your personal identifying information from public review, we cannot guarantee that we will be able to do so.

National Environmental Policy Act (NEPA)

In compliance with NEPA (42 U.S.C. 4321 et seq.), we have made an initial determination that the proposed activities in these permits are categorically excluded from the requirement to prepare an environmental assessment or environmental impact statement (516 DM6 Appendix 1, 1.4C(1)).

Dated: April 7, 2011.
Lynn Lewis,
Assistant Regional Director, Ecological Services, Region 3.

[FR Doc. 2011-9151 Filed 4-14-11; 8:45 am]

BILLING CODE 4310-55-P